DEPARTMENT OF TRANSPORTATION

Federal Aviation Administration

Meeting: RTCA Program Management Committee (PMC)

AGENCY: Federal Aviation Administration (FAA), U.S. Department of Transportation (DOT).

ACTION: Notice of the RTCA Program Management Committee meeting.

SUMMARY: The FAA is issuing this notice to advise the public of the RTCA Program Management Committee meeting.

DATES: The meeting will be held March 17, 2016 from 8:30 a.m.-4:30 p.m.

ADDRESSES: The meeting will be held at RTCA, Inc., 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a)(2) of the Federal Advisory Committee Act (Pub. L. 92-463, 5 U.S.C., App.), notice is hereby given for a meeting of the RTCA Program Management Committee. The agenda will include the following:

Thursday, March 17, 2016

1. Welcome and Introductions

2. Review/Approve

a. Meeting Summary December 15, 2015

3. Publication Consideration/Approval

a. Final Draft, Revised Document, DO-350—Safety and Performance Standard for Baseline 2 ATS Data Communications, Vol 1 and Vol 2, prepared by SC-214

b. Final Draft, Revised Document, DO-351—Interoperability Standard For Baseline 2 ATS Data Communications via the ATN, Vol 1 and Vol 2, prepared by SC-214

c. Final Draft, Revised Document, DO-352—Interoperability Standard For Baseline 2 ATS Data Communications, FANS 1/A Accommodation, prepared by SC-214

d. Final Draft, Revised Document, DO-353—Interoperability Standard For Baseline 2 ATS Data Communications, ATN Baseline 1 Accommodation, prepared by SC-214

e. Final Draft, Revised Document, DO-213 and DO-213 Change 1—Minimum Operational Performance Standards for Nose-Mounted Radomes, prepared by SC-230

f. Final Draft, Revised Document, DO-220 and DO-220 Change 1—Minimum Operational Performance Standard (MOPS) for Aircraft Weather Radar Equipment, prepared by SC-230

g. Final Draft, Revised Document, DO-93—Minimum Operational Performance Standard (MOPS) for Airborne Selective Calling Equipment, prepared by SC-232

4. Integration and Coordination Committee (ICC)

a. US and EUROCAE Studies—Update

b. Need for IP Standards—Update

5. Past Action Item Review

a. Design Assurance Guidance for Airborne Electronic Hardware—Status—Possible New Special Committee (SC) to Update RTCA DO-254

b. Runway Overrun Alerting—Status—possible new SC

c. Avionics Intra Communication—possible new Special Committee (SC)—Discussion

d. DO-262 Change 1—Update

e. Letter to Mr. Chambers' Family referencing DO-230F Dedication—Update

f. Initial Xu SC-147 Meeting—Update

6. Discussion

a. SC-216—Aeronautical Systems Security—Discussion—Revised TOR

b. SC-225—Rechargeable Lithium Battery and Battery Systems—Discussion—Status Update

c. SC-229—406 MHz Emergency Locator Transmitters (ELTs)—Discussion—Revised TOR

d. SC-234—Portable Electronic Devices—Discussion—Revised TOR

e. SC-235—Non-Rechargeable Lithium Batteries—Discussion—Revised TOR

f. NAC—Status Update

g. TOC—Status Update

h. Equip 2020—Update Presentation

i. FAA Actions Taken on Previously Published Documents—Report

j. Special Committees—Chairmen's Reports and Active Inter-Special Committee Requirements Agreements (ISRA)—Review

k. European/EUROCAE Coordination—Status Update

l. RTCA Award Nominations—Consideration/Approval of Nominations

7. Other Business

8. Schedule for Committee Deliverables and Next Meeting Date

9. New Action Item Summary

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 23, 2016.
Latasha Robinson,
Management & Program Analyst, NextGen, Enterprise Support Services Division, Federal Aviation Administration.

[FR Doc. 2016-04207 Filed 2-25-16; 8:45 am]

BILLING CODE 4910-13-P